ENVIRONMENTAL PROTECTION AGENCY

40 CFR Part 271

[FRL-6940-3]

Georgia: Final Authorization of State Hazardous Waste Management Program Revision: Delay of Effective Date

AGENCY: Environmental Protection Agency.

ACTION: Final rule; delay of effective date.

SUMMARY: In accordance with the memorandum of January 20, 2001, from the Assistant to the President and Chief of Staff, entitled “Regulatory Review Plan,” published in the Federal Register on January 24, 2001, this action temporarily delays for 60 days the effective date of the rule entitled Georgia: Final Authorization of State Hazardous Waste Management Program Revision, published in the Federal Register on November 28, 2000, 65 FR 70804. Georgia has applied to the Environmental Protection Agency (EPA or the Agency) for final authorization of the changes to its hazardous waste program under the Resource Conservation and Recovery Act (RCRA). EPA has determined that these changes satisfy all requirements needed to qualify for final authorization, and that rule authorizes the State's changes. To the extent that 5 U.S.C. 553 applies to this action, it is exempt from notice and comment because it constitutes a rule of procedure under 5 U.S.C. 553(b)(A). Alternatively, the Agency's implementation of this rule without opportunity for public comment, effective immediately upon publication today in the Federal Register, is based on the good cause exceptions in 5 U.S.C. 553(b)(B) and 553(d)(3), in that seeking public comment is impracticable, unnecessary and contrary to the public interest. The temporary 60-day delay in effective date is necessary to give Agency officials the opportunity for further review and consideration of new regulations, consistent with the Assistant to the President's memorandum of January 20, 2001. Given the imminence of the effective date, seeking prior public comment on this temporary delay would have been impractical, as well as contrary to the public interest in the orderly promulgation and implementation of regulations.

DATES: The effective date of the rule titled Georgia: Final Authorization of State Hazardous Waste Management Program Revision, published in the Federal Register on November 28, 2000, at 65 FR 70804, is delayed for 60 days, from January 29, 2001 to a new effective date of March 30, 2001.

FOR FURTHER INFORMATION CONTACT: Narindar Kumar, Chief, RCRA Programs Branch, Waste Management Division, U.S. Environmental Protection Agency, The Sam Nunn Atlanta Federal Center, 61 Forsyth Street, SW, Atlanta, Georgia 30303-8960; (404) 562-8440.

Dated: January 25, 2001.
W. Michael McCabe,
Acting Administrator.

[FR Doc. 01-2560 Filed 1-26-01; 8:45 am]

BILLING CODE 6560-50-P